DEPARTMENT OF DEFENSE

Department of the Navy

32 CFR Part 706

Certifications and Exemptions Under the International Regulations for Preventing Collisions at Sea, 1972; Correction

AGENCY: Department of the Navy, DoD.

ACTION: Final rule; correcting amendment.

SUMMARY: The Department of the Navy published a document in the Federal Register of February 12, 2010, concerning certifications and exemptions under the International Regulations for Preventing Collisions at Sea, 1972 (72 COLREGS). The document contained an incorrect hull number.

DATES: This correcting amendment is effective March 8, 2010, and is applicable beginning February 1, 2010.

FOR FURTHER INFORMATION CONTACT: Lieutenant Commander Ted Cook, JAGC, U.S. Navy, Admiralty Attorney, (Admiralty and Maritime Law), Office of the Judge Advocate General, Department of the Navy, 1322 Patterson Ave., SE., Suite 3000, Washington Navy Yard, DC 20374-5066, telephone number: 202-685-5040.

Need for Correction

In the Federal Register (75 FR 6858) of February 12, 2010, in an amendment to § 706.2 Table Five, an incorrect hull number for the USS PHILIPPINE SEA was presented.

List of Subjects in 32 CFR Part 706

Marine safety, Navigation (water), and Vessels.

For the reasons set forth in the preamble, the Navy amends part 706 of title 32 of the Code of Federal Regulations by making the following correcting amendment:

PART 706—CERTIFICATIONS AND EXEMPTIONS UNDER THE INTERNATIONAL REGULATIONS FOR PREVENTING COLLISIONS AT SEA, 1972

1. The authority citation for part 706 continues to read as follows:

Authority: 33 U.S.C. 1605.

2. Section 706.2 is amended in Table Five by revising the entry for USS PHILIPPINE SEA (CG 58) to read as follows:

§ 706.2 Certifications of the Secretary of the Navy under Executive Order 11964 and 33 U.S.C. 1605.

* * * * *

Table Five
Vessel | Number | Masthead lights not over all other lights and obstructions. Annex I, Section 2(f) | Forward masthead light not in forward quarter of ship. Annex I, Section 3(a) | After masthead light less than ½ ship's length aft of forward masthead light. Annex I, Section 3(a) | Percentage horizontal separation attained
* * * * * * *
USS PHILIPPINE SEA | CG59 |  | X | X | 36.8
* * * * * * *

* * * * *

Approved: February 22, 2010.
M. Robb Hyde,
Commander, JAGC, U.S. Navy, Deputy Assistant Judge Advocate General (Admiralty and Maritime Law).
Dated: February 24, 2010.
A.M. Vallandingam,
Lieutenant Commander, Office of the Judge Advocate General, U.S. Navy, Federal Register Liaison Officer.

[FR Doc. 2010-4666 Filed 3-5-10; 8:45 am]

BILLING CODE 3810-FF-P